DEPARTMENT OF ENERGY

RIN 1901-AB55

Request for Information Regarding the Advanced Technology Vehicles Manufacturing Loan Program; Reopening of Comment Period

AGENCY: Loan Programs Office, Department of Energy.

ACTION: Request for information (“RFI”); reopening of public comment period.

SUMMARY: The Loan Programs Office (“LPO”) of the Department of Energy (“DOE”) is seeking public input to inform its implementation of the Inflation Reduction Act of 2022 provisions relating to the Advanced Technology Vehicles Manufacturing Loan Program (the “ATVM Program”). On May 29, 2024, DOE published an RFI on these subjects. The RFI provided an opportunity for submitting written comments, data, and information no later than June 28, 2024. DOE received requests for an extension of the public comment period for an additional two weeks. DOE has reviewed these requests and is reopening the public comment period for 14 days to allow comments to be submitted.

DATES: The comment period for the RFI published on May 29, 2024 (89 FR 46378), which closed on June 28, 2024, is reopened. DOE will accept comments, data, and information regarding the RFI received no later than July 22, 2024.

ADDRESSES: Interested persons are encouraged to submit comments, identified by “ATVM Program RFI,” by any of the following methods:

Email: lpofederalregistercomments@hq.doe.gov. Include “ATVM Program RFI” in the subject line of the message. Email attachments can be provided in PDF (preferred), Microsoft Word or Excel, WordPerfect, or text (ASCII) file format, prepared in accordance with the detailed instructions in section III of the May 29, 2024 RFI, which can be found at: https://www.federalregister.gov/d/2024-11723.

Postal Mail: Loan Programs Office, Attn: LPO Legal Department, U.S. Department of Energy, 1000 Independence Avenue SW, Washington, DC 20585-0121. Please submit one signed original paper copy. Due to potential delays in DOE's receipt and processing of mail sent through the U.S. Postal Service, we encourage respondents to submit comments electronically to ensure timely receipt.

FOR FURTHER INFORMATION CONTACT: Steven Westhoff, Attorney-Adviser, Loan Programs Office, email: steven.westhoff@hq.doe.gov, or phone: (240) 220-4994.

SUPPLEMENTARY INFORMATION: On May 29, 2024, DOE published an RFI initiating a review to consider whether and how to amend DOE's ATVM Program regulations at 10 CFR part 611. 89 FR 46378. In the RFI, DOE identified certain programmatic and procedural issues on which it is interested in receiving comment. These issues include implementation of new categories of advanced technology vehicles and incorporation of community jobs and justice goals in the ATVM Program application process. The RFI set a comment period deadline of June 28, 2024.

Certain interested parties requested a two-week extension of the public comment period to respond appropriately to the RFI with considered comments regarding future implementation and administration of the ATVM Program. DOE anticipates that reopening the public comment period will enable additional stakeholders to submit valuable comments in response to the RFI.

DOE has determined that reopening the public comment period is appropriate to allow interested parties additional time to submit comments for DOE's consideration. Thus, DOE is reopening the comment period for 14 days.

Signing Authority

This document of the Department of Energy was signed on July 1, 2024, by Jigar Shah, Executive Director, Loan Programs Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 1, 2024.
Treena V. Garrett,
Federal Register Liaison Officer, U.S. Department of Energy.

[FR Doc. 2024-14778 Filed 7-5-24; 8:45 am]

BILLING CODE 6450-01-P